DEPARTMENT OF TRANSPORTATION

Federal Transit Administration

Environmental Impact Statement for the East San Fernando Valley Transit Corridor Project, Los Angeles, California

AGENCY: Federal Transit Administration, DOT.

ACTION: Notice of Intent to Prepare an Environmental Impact Statement (EIS).

SUMMARY: The Federal Transit Administration (FTA) and the Los Angeles County Metropolitan Transportation Authority (LACMTA) are issuing this Notice of Intent (NOI) to advise other agencies and the public that they will jointly prepare an Environmental Impact Statement (EIS) for proposed transit improvements in the East San Fernando Valley Transit Project Corridor in Los Angeles County, California. The proposed project would provide new transit service and related infrastructure in the eastern San Fernando Valley. The EIS will evaluate new light rail and bus rapid transit services alternatives, generally running north-south along portions of Van Nuys and Sepulveda Boulevards.

The EIS will be prepared in accordance with the requirements of the National Environmental Policy Act (NEPA) and its implementing regulations. The EIS process will evaluate alternatives recommended for further study as a result of the planning Alternatives Analysis approved by the LACMTA Board on January 24, 2013, and available on the LACMTA Web site (http://www.metro.net/east-sfv). Pursuant to 23 CFR 771.123(j), at the conclusion of the Draft Environmental Impact Statement (DEIS) circulation period, LACMTA will prepare a report identifying the locally preferred alternative (LPA). Prior to commencement of a Final EIS, the LPA will be adopted by the LACMTA Board and included in the Metropolitan Transportation Plan identifying sufficient federal and other funding for the project, in order to be evaluated under the NEPA process.

LACMTA will also use the EIS document to comply with the California Environmental Quality Act (CEQA), which requires an Environmental Impact Report (EIR). The purpose of this notice is to alert interested parties regarding the intent to prepare the EIS, to provide information on the nature of the proposed project and possible alternatives, and to invite public participation in the EIS process, including providing comments on the scope of the DEIS, and to announce that public scoping meetings will be conducted.

DATES: Written comments on the scope of the EIS, including the project's purpose and need, the alternatives to be considered, the impacts to be evaluated, and the methodologies to be used in the evaluations should be sent to LACMTA on or before May 6, 2013 at the address below. See ADDRESSES below for the address to which written public comments may be sent. Public scoping meetings to accept comments on the scope of the EIS/EIR will be held on the following dates:

• Saturday, March 16, 2013; 10:00 a.m. to 12:00 p.m. at the Panorama High School, 8015 Van Nuys Boulevard, Panorama City, CA 91402.

• Tuesday, March 19, 2013; 6:00 to 8:00 p.m. at the San Fernando Aquatic Center, 208 Park Avenue, San Fernando, CA 91340.

• Thursday, March 21, 2013; 6:00 to 8:00 p.m. at Arleta High School—Cafeteria, 14200 Van Nuys Boulevard, Arleta, CA 91331.

• Wednesday, March 27, 2013; 4:00 to 6:00 p.m. at the Van Nuys Civic Center—Marvin Braude Constituent Service Center, 6262 Van Nuys Boulevard, Van Nuys, CA 91401.

The locations are accessible to persons with disabilities. Any individual who requires special assistance, such as a sign language interpreter, to participate in the scoping meeting should contact the project at least 3 days prior to the meetings at (818) 276-5233 or eastsfvtransit@metro.net.

Scoping materials will be available at the meetings and are available on the LACMTA Web site (http://www.metro.net/projects/east-sfv). Hard copies of the scoping materials may also be obtained from the project at (818) 276-5233 or eastsfvtransit@metro.net. An interagency scoping meeting will be held on Wednesday, March 20, 2013, at 1:00 p.m. at LACMTA, in the Union Station Room, 3rd Floor, One Gateway Plaza, Los Angeles, CA 90012. Representatives of Native American tribal governments and of all federal, state, regional and local agencies that may have an interest in any aspect of the project will be invited to be participating or cooperating agencies, as appropriate.

ADDRESSES: Comments will be accepted at the public scoping meetings or they may be sent to Mr. Walt Davis, Project Manager, Los Angeles County Metropolitan Transportation Authority, One Gateway Plaza, Mail Stop 99-22-3, Los Angeles, CA 90012, or via email at eastsfvtransit@metro.net. The locations of the public scoping meetings are given above under DATES.

FOR FURTHER INFORMATION CONTACT: Mary Nguyen, Environmental Protection Specialist, Los Angeles Metropolitan Office, Federal Transit Administration, 888 South Figueroa Street, Suite 2170, Los Angeles, CA 90017, phone (213) 202-3960, or via email at mary.nguyen@dot.gov.

SUPPLEMENTARY INFORMATION:

Scoping

Scoping is the process of determining the scope, focus, and content of an EIS. FTA and LACMTA invite all interested individuals and organizations, public agencies, and Native American tribes to comment on the scope of the DEIS, including the project's purpose and need, the alternatives to be studied, the impacts to be evaluated, and the evaluation methods to be used. Comments should focus on: Alternatives that may be less costly or have less environmental or community impacts while achieving similar transportation objectives, and the identification of any significant social, economic, or environmental issues relating to the alternatives.

NEPA “scoping” has specific and fairly limited objectives, one of which is to identify the significant issues associated with alternatives that will be examined in detail in the document, while simultaneously limiting consideration and development of issues that are not truly significant. It is in the NEPA scoping process that potentially significant environmental impacts—those that give rise to the need to prepare an EIS—should be identified; impacts that are deemed not to be significant need not be developed extensively in the context of the impact statement, thereby keeping the statement focused on impacts of consequence. Transit projects may also generate environmental benefits; these should be highlighted as well—the impact statement process should draw attention to positive impacts, not just negative impacts.

In the interest of producing a readable and user-friendly public document, and pursuant to 40 CFR 1502.10, the EIS shall be limited to 250 pages exclusive of any 4(f) and/or 6(f) evaluation. The EIS should emphasize graphics and virtual visual simulations over technical jargon, and technical appendices shall be included in a separate volume.

Project Initiation

The FTA and LACMTA will prepare an EIS/EIR for the East San Fernando Valley Transit Corridor Project pursuant to 23 U.S.C. 139 and CEQA. LACMTA is serving as the local lead agency for purposes of CEQA environmental clearance. FTA is serving as the lead federal agency and LACMTA as a co-lead agency for the purpose of NEPA. This notice shall alert interested parties to the preparation of the EIS/EIR, describe the alternatives under consideration, invite public participation in the EIS/EIR process, and announce the public scoping meetings. FTA and LACMTA will invite interested federal, state, tribal, regional and local government agencies to be participating agencies under the provisions of 23 U.S.C. 139.

Purpose and Need for the Project

Based on an evaluation of socioeconomic, congestion growth trends, travel conditions, and feedback from the project stakeholder meetings, it is demonstrated that existing and projected levels of traffic congestion in the corridor limit mobility in general, reducing the reliability of transit services. In light of these conditions, the purpose of the project can be summarized as follows:

• Improve mobility in the eastern San Fernando Valley by introducing an improved north-south transit connection between key transit hubs/routes.

• Enhance transit accessibility/connectivity for residents within the eastern San Fernando Valley to local and regional destinations.

• Provide more reliable transit service within the eastern San Fernando Valley.

• Provide additional transit options in an area with a large transit dependent population and high number of transit riders.

• Encourage modal shift to transit in the eastern San Fernando Valley, thereby improving air quality.

Project Location and Environmental Setting

The proposed project is located in the eastern San Fernando Valley, extending from Ventura Boulevard in the Sherman Oaks area of the City of Los Angeles north to the Sylmar-San Fernando Metrolink Station in the City of San Fernando. Major arterial roadways include Sepulveda and Van Nuys Boulevards and San Fernando Road. Freeways include US 101, I-405, I-5, SR-118, 1-210, and SR-170. In addition to Metro Local and Rapid bus service, area transit services include the Metro Orange Line (Orange Line) bus rapid transit service, Metrolink Ventura Line and Antelope Valley Line commuter rail services, and Amtrak inter-city rail service.

Land uses in the area include medium- to high-density residential uses and commercial uses. Several car dealerships comprising Auto Row are located along Van Nuys Boulevard, south of Chandler Boulevard. Government services are consolidated at the Van Nuys Civic Center. Major activity centers include The Village at Sherman Oaks, Sherman Oaks Galleria, Panorama Mall, California State University Northridge, Burbank Bob Hope Airport, Van Nuys Airport, Mission Hills Hospital, Kaiser Permanente Hospital, and several schools, youth centers, and recreational centers.

Alternatives

The alternatives for the East San Fernando Valley Transit Corridor include the No-Build Alternative, Transportation System Management (TSM) Alternative, and build alternatives, which include multiple modes and routes. Potential modes for the build alternatives include bus rapid transit (BRT) and light rail transit (LRT). The Metro East San Fernando Valley Transit Corridor Alternatives Analysis Report (2013) (AA), prepared for LACMTA, studied a large number of transit alternatives in the corridor. The AA is available on the LACTMA Web site at http://www.metro.net/projects/east-sfv/east_sfv-reports. For the build alternatives, the report considered a large number of surface-running routes that would provide a direct transit connection between Sherman Oaks at the southern end of the project corridor and Sylmar and the City of San Fernando at the northern end.

The Draft EIS/EIR will analyze any reasonable alternatives uncovered during scoping. The alternatives being evaluated include:

No-Build Alternative: The No-Build Alternative represents the predicted conditions through the year 2035. No new transportation infrastructure would be built within the project area aside from projects currently under construction, or funded for construction and operation by 2035. This alternative will include the highway and transit projects in the current constrained element of the LACMTA Long Range Transportation Plan (LRTP) and the 2012 Southern California Association of Governments Regional Transportation Plan (RTP). This alternative establishes a baseline for comparison for the other alternatives in terms of benefits and costs, and in terms of environmental analysis.

Transportation System Management (TSM) Alternative: The TSM Alternative enhances the No Build Alternative and emphasizes transportation systems upgrades. It represents the best that can be done to improve transit service without high-cost investment, and includes increased bus frequencies or minor modifications to the roadway network or traffic control systems. The TSM Alternative consists of the No-Build bus network and enhanced bus frequencies for the existing Metro Rapid Bus 761, which runs primarily on Van Nuys Boulevard in the Corridor. The Metro Rapid Bus 761 would operate on headways reduced from 10 minutes peak/17.5 minutes off-peak to 6 minutes peak/12 minutes off-peak. In addition, Metro will evaluate the Local 233 line, which also provides service to Van Nuys Boulevard, and Metro Rapid 734 and Local 234 lines, which provide service to Sepulveda Boulevard, approximately one mile west of Van Nuys Boulevard. The lines will be evaluated and headways adjusted as appropriate. Additional TSM options include intersection improvements, minor road widening, traffic engineering actions, signalization improvements, bus stop amenities/improvements, and bus schedule restructuring.

Light Rail Transit (LRT) Alternative: This median-running LRT alternative would travel from the Sylmar-San Fernando Metrolink Station southeast to Van Nuys Boulevard, and then south to Ventura Boulevard. It would serve the Cities of San Fernando and Los Angeles, including the communities of Sylmar, Pacoima, Arleta, Panorama City, Van Nuys, and Sherman Oaks, with approximately 13 stations. It may be completed in phases, which could include starting the alignment at the Van Nuys Boulevard Orange Line Station to the south and terminating at Van Nuys Boulevard and San Fernando Road to the north. The entire 11.2-mile route would operate in a dedicated guideway.

This alternative would include the construction of a new rail maintenance facility. The exact location of the proposed facility has yet to be determined. However, the selection of the facility will be based on the following criteria:

• Located within an industrialized area

• Proximity to the alignment (Van Nuys Boulevard and San Fernando Road)

• Accessibility via rail tracks

• Sufficient size for facility site

Bus Rapid Transit (BRT) Alternative: This generally median-running BRT alternative would operate from the Sylmar-San Fernando Metrolink Station in the north to the Sepulveda Boulevard Orange Line Station or Sepulveda Boulevard and Ventura Boulevard in the south, as described in Options 1, 2, and 3 below. It would serve the Cities of San Fernando and Los Angeles, including the communities of Sylmar, Pacoima, Arleta, Panorama City, Van Nuys, and Sherman Oaks, with approximately 14 stations. Approximately 9.4 miles of the route would operate in a median-running configuration. The remaining 2.6 miles would operate in mixed-flow traffic between the Sylmar-San Fernando Metrolink Station and San Fernando Road and Van Nuys Boulevard.

The BRT includes three options. Option 1 would require operation in mixed flow traffic along Van Nuys Boulevard south of the Van Nuys Orange Line Station. Option 2 would continue operation to the west within the Orange Line guideway to the Sepulveda Orange Line Station. Option 3 would continue a dedicated lane south from the Sepulveda Orange Line Station along to Sepulveda Boulevard to Ventura Boulevard.

In addition to the alternatives described above, other reasonable transit alternatives identified through the public and agency scoping process will be evaluated for potential inclusion in the EIS.

Probable Effects

The purpose of this EIS process is to study, in a public setting, the effects of the proposed project and its alternatives on the physical, human, and natural environment. The FTA and LACMTA will evaluate all significant environmental, social, and economic impacts of the construction and operation of the proposed project. The probable impacts will be determined as a part of the project scoping. Unless further screening illuminates areas of possible impact, resource areas will be limited to those uncovered during scoping. Measures to avoid, minimize, and mitigate adverse impacts will also be identified and evaluated.

FTA Procedures

The regulations implementing NEPA call for public involvement in the EIS process. FTA and LACMTA are required by 23 U.S.C. 139 to do the following: (1) Extend an invitation to other federal and non-federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other federal and non-federal agencies and Native American tribes that may have an interest in the proposed project. It is possible that FTA and LACMTA will not be able to identify all federal and non-federal agencies and Native American tribes that may have such an interest. Any federal or non-federal agency or Native American tribe interested in the proposed project that does not receive an invitation to become a participating agency should notify at the earliest opportunity the Project Manager identified above under ADDRESSES.

A comprehensive public involvement program and a Coordination Plan for public and interagency involvement will be developed for the project and posted by LACMTA on the project Web site (http://www.metro.net/projects/east-sfv). The public involvement program includes a full range of activities including a public scoping process to define the issues of concern, a project web page on the LACMTA Web site, development and distribution of project newsletters, and outreach to local officials, community and civic groups, and the public. Specific activities or events for involvement will be detailed in the public involvement program.

The EIS will be prepared in accordance with NEPA and its implementing regulations issued by the Council on Environmental Quality (40 CFRparts 1500-1508) and with the FTA/Federal Highway Administration regulations “Environmental Impact and Related Procedures” (23 CFR part 771). In accordance with 23 CFR 771.105(a) and 23 CFR 771.133, FTA will comply with all federal environmental laws, regulations, and executive orders applicable to the proposed project during the environmental review process to the maximum extent practicable. These requirements include, but are not limited to, the environmental and public hearing provisions of federal transit laws (49 U.S.C. 5301(e), 5323(b), and 5324); the project-level air quality conformity regulation of the U.S. Environmental Protection Agency (EPA) (40 CFR part 93); the Section 404(b)(1) guidelines of EPA (40 CFR part 230); the regulation implementing Section 106 of the National Historic Preservation Act (36 CFR part 800); the regulation implementing Section 7 of the Endangered Species Act (50 CFR part 402); Section 4(f) (23 U.S.C. 38 and 49 U.S.C. 303); and Executive Orders 12898 on environmental justice, 11988 on floodplain management, and 11990 on wetlands.

Issued on: February 25, 2013.
Leslie T. Rogers,
Regional Administrator, Regional IX, Federal Transit Administration.

[FR Doc. 2013-04709 Filed 2-27-13; 8:45 am]

BILLING CODE P